DEPARTMENT OF DEFENSE

Office of the Secretary of Defense; Establishment of U.S. Army Amputee Patient Care Program Board

AGENCY: Department of Defense.

ACTION: Notice.

SUMMARY: The U.S. Army Amputee Patient Care Program Board is being established in the public interest, and in accordance with the provisions of the “Federal Advisory Committee Act,” title 5 U.S.C., appendix II.

The Board shall serve in an advisory capacity to broaden the scope of vision for the U.S. Army Amputee Patient Care Program. The Board will make such suggestions for the improvement of the program as it deems necessary. The Board will consist of nine members selected on a standardized basis for their preeminence in the field of amputee patient care. The Board will include members familiar with aspects of patient care, psychosocial issues, and family issues. Members will also be chosen who have broad experience in areas which impact on quality improvement in amputee patient care such as education and training. The Board shall meet at least twice each year to monitor the amputee patient care programs and services and insure effective organizational planning. The Board will also ensure that through the collaboration of a multi-disciplinary team, the U.S. Army Amputee Patient Care Program is providing world-renowned amputee care, assisting their patients as they return to the highest levels of physical, psychological, and emotional well being.

FOR FURTHER INFORMATION CONTACT: Contact Ms. Jennifer Spaeth, DoD Committee Management Officer, 703-588-8151.

Dated: May 28, 2004.
L.M. Bynum,
Alternate OSD Federal Register Liaison Officer, Department of Defense.

[FR Doc. 04-12725 Filed 6-4-04; 8:45 am]

BILLING CODE 5001-08-M